FEDERAL MARITIME COMMISSION

Notice of Agreements Filed

The Commission hereby gives notice of the filing of the following agreements under the Shipping Act of 1984. Interested parties may submit comments on the agreements to the Secretary, Federal Maritime Commission, Washington, DC 20573, within twelve days of the date this notice appears in the Federal Register. Copies of the agreements are available through the Commission's Web site (www.fmc.gov) or by contacting the Office of Agreements at (202)-523-5793 or tradeanalysis@fmc.gov.

Agreement No.: 011223-056.

Title: Transpacific Stabilization Agreement.

Parties: American President Lines, Ltd. and APL Co. PTE Ltd.; (operating as a single carrier); CMA CGM S.A.; COSCO Container Lines Company Ltd; Evergreen Line Joint Service Agreement; Hapag-Lloyd AG; Hyundai Merchant Marine Co., Ltd.; Maersk Line A/S; Mediterranean Shipping Company; Orient Overseas Container Line Limited; and Yang Ming Marine Transport Corp.

Filing Party: David F. Smith, Esq.; Cozen O'Conner; 1200 Nineteenth Street, NW; Washington, DC 20036.

Synopsis: This amendment revises Appendix A of the TSA Agreement to remove Zim Integrated Shipping Services, Ltd., as a party to the Agreement.

Agreement No.: 201143-014.

Title: West Coast MTO Agreement.

Parties: APM Terminals Pacific, Ltd.; California United Terminals, Inc.; Eagle Marine Services, Ltd.; Everport Terminal Services, Inc; International Transportation Service, Inc.; LBCT LLC d/b/a Long Beach Container Terminal LLC; Trapac, Inc.; Total Terminals LLC; West Basin Container Terminal LLC; Yusen Terminals, Inc.; Pacific Maritime Services, L.L.C.; SSA Terminals, LLC; and SSA Terminal (Long Beach), LLC.

Filing Party: Wayne R. Rohde, Esq.; Cozen O'Connor; 1200 19th Street, NW; Washington, DC 20036.

Synopsis: The amendment reflects a change in the corporate name of the entity formerly known as Long Beach Container Terminal, Inc. and revises Appendix A to clarify the corporate affiliations of International Transportation Service, Inc. and Total Terminals LLC.

Agreement No.: 201179-003.

Title: Lease and Operating Agreement between PRPA and Northeast Energy Terminal, LLC.

Parties: The Philadelphia Regional Port Authority (PRPA) and Northeast Energy Terminal, LLC.

Filing Party: Denise M. Brumbaugh; Philadelphia Regional Port Authority; 3460 N. Delaware Avenue; Philadelphia, PA 19134.

Synopsis: The amendment assigns the lease to Northeast Energy Terminal, LLC and updates the terms of the lease.

By Order of the Federal Maritime Commission.
Dated: December 23, 2016.
Rachel E. Dickon,
Assistant Secretary.

[FR Doc. 2016-31615 Filed 12-28-16; 8:45 am]

BILLING CODE 6731-01-P